DEPARTMENT OF AGRICULTURE

Forest Service

Sequoia National Forest, California; Summit Fuels Reduction and Forest Health Project

Correction

In notice document 2015-23236 appearing on pages 55590-55591 in the issue of Wednesday, September 16, 2015 make the following correction:

On page 55590, in the third column, under the DATES heading, in the third line “September 16, 2015” should read “October 16, 2015”.

[FR Doc. C1-2015-23236 Filed 9-18-15; 8:45 am]

BILLING CODE 1505-01-D